DEPARTMENT OF AGRICULTURE

Forest Service

Notice of Proposed New Fee Sites

AGENCY: Forest Service, Agriculture (USDA).

ACTION: Notice of proposed new fee sites.

SUMMARY: The Uinta-Wasatch-Cache National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fees would be implemented no earlier than six months following the publication of this notice in the Federal Register.

ADDRESSES: Uinta-Wasatch-Cache National Forest, 857 West South Jordan Parkway, South Jordan, UT 84095.

FOR FURTHER INFORMATION CONTACT: Renee Flanagan, Recreation, Heritage, Wilderness, and Lands Staff Officer, 801-999-2157 or renee.flanagan@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal the Cottonwood, Dry Canyon, East Fork Black's Fork, Elk Camp, National Guard, Sawmill Hollow, Unicorn Ridge, and Vernon Reservoir Campgrounds are proposed at $10 for a three-day pass, $20 for seven-days, and $60 for annual pass per vehicle. The Middle Fork Blacks Group Campground is proposed at $50 per group per night when reserved. In addition, this proposal would implement new fees at five recreation rentals: Right Hand Fork Guard Station proposed at $150 a night, Timpooneke Guard Station proposed at $125 a night, Mill Creek Guard Station at $100 a night, and the Hewinta and Elk Valley Guard Stations are proposed at $75 a night. Special Recreation Permits are proposed for Clyde Winter, Co Op Winter, Strawberry Winter, Lower Green Canyon, Smithfield Canyon Winter, Tony Grove Winter Sports, and Sinks Winter trailheads for $10 for a three-day pass, $20 for seven-days, and $60 for annual pass per vehicle.

The following day use sites are being proposed at $10 for a three-day pass, $20 for seven-days, and $60 for annual pass per vehicle: Cardiff Fork/Mill D North Trailhead, Causey Reservoir, Devil's Kitchen, Donut Falls Trailhead, Dry Creek Trailhead, Fifth Water Trailhead, Granite Rock Trailhead, Grit Mill Trailhead, Lower Grotto Trailhead, Henry's Fork Trailhead, Jenkins Flat, Mill B Trailhead (North & South), Monks Hollow Trailhead, Monument Trailhead, Murray Farm Trailhead, National Guard Trailhead, Quarter Corner Trailhead, Red Ledges, Silver Lake Recreation Complex, Skull Crack Trailhead, Soapstone Trailhead, Spruces Winter Trailhead, Temple Quarry Trailhead, Three Forks Trailhead, Upper Grotto Trailhead, Wheat Grass Trailhead, White Pine Trailhead, and Yellow Pine Day Use Sites. The full suite of Interagency passes would be honored at these day use sites.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: August 1, 2022.
Sandra Watts,
Acting Associate Deputy Chief, National Forest System.

[FR Doc. 2022-16766 Filed 8-4-22; 8:45 am]

BILLING CODE 3411-15-P